ENVIRONMENTAL PROTECTION AGENCY

[FRL-8184-3]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et seq.). An agency may not conduct or sponsor, and a person is not required to respond to, a collection of information unless it displays a currently valid OMB control number.

The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1884.03; Partial Update of the TSCA Section 8 (b) Inventory Data Base, Production and Site Reports; in 40 CFR part 710; was approved May 3, 2006; OMB Number 2070-0162; expires May 31, 2009.

EPA ICR No. 0138.08; Modification of Secondary Treatment Requirements for Discharges into Marine Waters; in 40 CFR part 125, subpart G; 40 CFR 124.53; 40 CFR 124.54; 40 CFR 125.59(c),(d), (f) and (g); 40 CFR 125.68(c) and (d) 40 CFR 125.63(b), (c), and (d); 40 CFR 125.66; 40 CFR 125.61(b)(2) and 125.64(b); was approved May 1, 2006; OMB Number 2040-0088; expires May 31, 2009.

EPA ICR No. 2067.03; Laboratory Quality Assurance Evaluation Program for Analysis of Cryptosporidium under the Safe Drinking Water Act; was approved May 9, 2006; OMB Number 2040-0246; expires May 31, 2009.

EPA ICR No. 1395.06; Emergency Planning and Release Notification Requirements under Emergency Planning and Community Right-to-Know Act Sections 302, 303, and 304 (Renewal); in 40 CFR part 355; was approved May 9, 2006; OMB Number 2050-0092; expires May 31, 2009.

EPA ICR No. 2219.01; Tips and Complaints Regarding Environmental Violations; was approved May 17, 2006; OMB Number 2020-0032; expires November 30, 2006.

EPA ICR No. 1189.17; Identification, Listing and Rulemaking Petitions for Wastewater Treatment Exemptions for Hazardous Waste Mixtures (Final Rule); in 40 CFR 261.3(a)(2)(iv); (A)-(G) (Revision) was approved May 25, 2006; OMB Number 2050-0053; expires January 31, 2008.

EPA ICR No. 2076.02; Reporting Requirements Under EPA's National Partnership for Environmental Priorities (Renewal); was approved May 30, 2006; OMB Number 2050-0190; expires May 31, 2009.

EPA ICR No. 2169.02; Cooling Water Intake Structures at Phase III Facilities (Final Rule); in 40 CFR 435.10, 40 CFR 435.40, 40 CFR 125.131 subpart N, Section 316(b); was approved May 31, 2006; OMB Number 2040-0268; expires May 31, 2009.

EPA ICR No. 1055.08; NSPS for Kraft Pulp Mills (Renewal); in 40 CFR part 60,subpart BB; was approved May 31, 2006; OMB Number 2060-0021; expires May 31, 2009.

Comment Filed

EPA ICR No. 1591.20; Regulation of Fuel and Fuel Additives: Gasoline Benzene Program (Proposed Rule); OMB Number 2060-0277; OMB filed comments on May 25, 2006.

Short Term Extensions

EPA ICR No. 0916.10; Final Consolidated Emissions Reporting Rule; OMB Number 2060-0088; on May 25, 2006 OMB extended the expiration date to June 30, 2006.

EPA ICR No. 1995.02; NESHAP for Coke Oven: Pushing, Quenching, and Battery Stacks (Final Rule); in 40 CFR part 63, subpart CCCCC; OMB Number 2060-0521; on May 12, 2006; OMB extended the expiration date to August 31, 2006.

EPA ICR No. 1541.07; NESHAP: Benzene Waste Operations; in 40 CFR part 61, subpart FF; OMB Number 2060-0183; on May 12, 2006; OMB extended the expiration date to August 31, 2006.

EPA ICR No. 2029.02; NESHAP for Asphalt Processing and Asphalt Roofing Manufacturing (Final Rule); in 40 CFR part 63, subpart LLLLL; on May 12, 2006; OMB Number 2060-0520; OMB extended the expiration date to June 30, 2006.

Dated: June 9, 2006.
Oscar Morales,
Director, Collection Strategies Division.

[FR Doc. E6-9465 Filed 6-15-06; 8:45 am]

BILLING CODE 6560-50-P